DEPARTMENT OF STATE

[Public Notice:11227]

Defense Trade Advisory Group (DTAG): Revised RSVP Date for the DTAG Open Session on Thursday, October 22

AGENCY: Department of State.

ACTION: Notice.

SUMMARY: This notice corrects an erroneous RSVP date provided in an earlier notice for the Defense Trade Advisory Group (DTAG) open session on October 22, 2020.

DATES: Applicable on October 9, 2020

FOR FURTHER INFORMATION CONTACT: Ms. Barbara Eisenbeiss, DDTC, SA-1, 12th Floor, Directorate of Defense Trade Controls, Bureau of Political-Military Affairs, U.S. Department of State, Washington, DC 20522-0112; telephone (202) 663-2835 or email DTAG@state.gov (mailto:DTAG@state.gov).

SUPPLEMENTARY INFORMATION: The revised RSVP date for the DTAG Open Meeting is COB October 20, 2020. Because the DTAG October 22 meeting is virtual, the normal two-week RSVP is not required. The original Federal Register Notice for the meeting (85 FR 57921) listed an earlier RSVP date of October 5, which was erroneous.

Neal F. Kringel,
Designated Federal Officer, Defense Trade Advisory Group, Department of State.

[FR Doc. 2020-22902 Filed 10-15-20; 8:45 am]

BILLING CODE 4710-25-P